RAILROAD RETIREMENT BOARD

Proposed Collection; Comment Request

SUMMARY: In accordance with the requirement of section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of Information Collection: Evidence for Application of Overall Minimum: OMB 3220-0083.

Under section 3(f)(3) of the Railroad Retirement Act (RRA), the total monthly benefits payable to a railroad employee and his/her family are guaranteed to be no less than the amount that would be payable if the employee's railroad service had been covered by the Social Security Act. This is referred to as the Special Guaranty computation or the Retirement Overall Minimum (O/M) provision. To administer the Special Guaranty provision, the RRB requires information about a retired employee's spouse and any child who is not currently eligible for benefits under the RRA but might have been eligible for benefits under the Social Security Act if the employee's railroad service had been covered by that Act.

The RRB currently obtains the required information by the use of forms G-319 (Statement Regarding Family and Earnings for Special Guaranty Computation) and G-320 (Statement by Employee Annuitant Regarding Student Age 18-19). One form is completed by each respondent.

The RRB proposes significant burden impacting changes to Form G-319 and Form G-320. The major changes proposed are primarily to gather information needed due to the Railroad Retirement and Survivors Improvement Act which created a new category of employees whose families might qualify for the Special Guaranty Computation if the employee has less than 120 months of railroad service, but at least 60 months of railroad service after 1995, and to expand the use of Form G-320 to include student attendance monitoring. Proposed Form G-319 will be renamed, “Statement Regarding Family and Earnings for the Special Guaranty Computation”. Proposed Form G-320 will be renamed “Student Questionnaire for the Special Guaranty Computation”. Transmittal letters containing completion instructions have been developed for both of the proposed forms.

The estimated annual respondent burden is as follows:

Estimate of Annual Respondent Burden
Form #(s) | Annual responses | Time (min) | Burden (hrs)
G-319 Employee completed:
With assistance | 100 | 26 | 43
Without assistance | 5 | 55 | 5
G-319 Spouse completed:
With assistance | 100 | 30 | 50
Without assistance | 5 | 60 | 5
G-320:
Age 18 at Special Guaranty | 95 | 15 | 24
Begin Date or Special Guaranty
Age 18 Attainments
G-320:
Student Monitoring done in Sept., March, and at end of school year | 170 | 15 | 42
Total | 475 |  | 169

Additional Information or Comments: To request more information or to obtain a copy of the information collection justifications, forms, and/or supporting material, please call the RRB Clearance Officer at (312) 751-3363 or send an e-mail request to Charles.Mierzwa@RRB.GOV. Comments regarding the information collection should be addressed to Ronald J. Hodapp, Railroad Retirement Board, 844 N. Rush Street, Chicago, Illinois 60611-2092 or send an e-mail to Ronald.Hodapp@RRB.GOV. Comments should be received within 60 days of this notice.

Charles Mierzwa,
Clearance Officer.

[FR Doc. 05-13445 Filed 7-7-05; 8:45 am]

BILLING CODE 7905-01-P